DEPARTMENT OF TRANSPORTATION

National Highway Traffic Safety Administration

49 CFR Part 571

[U.S. DOT Docket Number NHTSA-2005-22655]

Federal Motor Vehicle Safety Standards; Steering Control Rearward Displacement

AGENCY: National Highway Traffic Safety Administration (NHTSA), U.S. Department of Transportation.

ACTION: Denial of petition for rulemaking.

SUMMARY: On July 28, 2004, NHTSA received a petition for rulemaking from Honda Motor Company Ltd. requesting that the agency amend the applicability of Federal Motor Vehicle Safety Standard (FMVSS) No. 204, “Steering control rearward displacement.” Specifically, it petitioned to exempt vehicles that already comply with the unbelted frontal barrier crash requirements of FMVSS No. 208, “Occupant crash protection.” This notice denies this petition for rulemaking.

FOR FURTHER INFORMATION CONTACT: For non-legal issues: Christopher Wiacek, Office of Crashworthiness Standards, NVS-112, National Highway Traffic Safety Administration, 400 Seventh Street, SW., Washington, DC 20590. Telephone: (202) 366-4801. Fax: (202) 493-2290.

For legal issues: Christopher Calamita, Office of Chief Counsel, NCC-112, National Highway Traffic Safety Administration, 400 Seventh Street, SW., Washington, DC 20590. Telephone: (202) 366-2992. Fax: (202) 366-3820.

SUPPLEMENTARY INFORMATION:

I. Background

The purpose of FMVSS No. 204 is to reduce driver injuries and fatalities by limiting the rearward motion of the steering column in frontal crashes. FMVSS No. 204 requires that the upper end of the steering column and shaft in the vehicle shall not be displaced more than 127 mm in a horizontal rearward direction parallel to the longitudinal axis of the vehicle after a 48 km/h perpendicular impact into a fixed collision barrier. The standard applies to passenger cars and trucks, buses or multipurpose vehicles with a gross vehicle weight rating of 4,536 kg or less and an unloaded vehicle weight of 2,495 kg or less.

On July 20, 1987, Mitsubishi Motors America Inc., submitted a petition for rulemaking requesting that the agency amend FMVSS No. 204 to exclude vehicles that comply with the frontal barrier crash test requirements of FMVSS No. 208, “Occupant crash protection,” by means other than safety belts. The petition stated that FMVSS No. 204 is directed at reducing the likelihood of chest, neck and head injuries, which the petitioner said unnecessarily duplicates the protection provided by air bags. In response, NHTSA denied the petition on January 13, 1988 (53 FR 780), stating, “The agency does not agree that the protection provided by Standard No. 204 is unnecessary for vehicles equipped with air bags. The standard essentially requires hardware to disconnect steering gear movement from the steering column under crash conditions. NHTSA further believes that, in the absence of Standard No. 204, it is possible for a steering assembly to displace more than five inches in a situation where the injury criteria of Standard No. 208 were met. Thus, although the driver's impact with the assembly fell within the injury criteria of the latter standard, the rearward motion of the assembly might entrap the driver or make escape from the vehicle more difficult.” Consequently, no amendment to the standard was made.

Several years later, NHTSA had undertaken a review of its regulations and directives pursuant to the March 4, 1995, Regulatory Reinvention Initiative by the President. During the course of the review, the agency identified several regulations that were potential candidates for rescission or amendment. One of these regulations was FMVSS No. 204. On November 16, 1995, the agency issued a notice of proposed rulemaking (NPRM) (60 FR 221) to exclude certain vehicles from the application of the standard, such as passenger cars and other light vehicles that complied with the frontal barrier crash test requirements S5.1 of FMVSS No. 208. The agency stated, the engineering considerations that go into designing a vehicle with air bags would ensure that the vehicle would have the same performance for steering control rearward displacement as is currently required by the regulation.

In response to the NPRM, the agency received six comments. Four of the commenters, the Insurance Institute for Highway Safety (IIHS), Mitsubishi Motors of America, Volkswagen and the American Automobile Manufacturers Association (AAMA), concurred with the proposed exemptions. The IIHS stated that the current dynamic test in FMVSS No. 208 with an unbelted dummy is more than sufficient to limit excessive steering control rearward displacement. Mitsubishi supported the exemptions based upon the reasons cited in its July 20, 1987 petition. Volkswagen stated it would reduce testing burden and vehicle cost. The AAMA concurred with the exemptions by stating that for an air bag-equipped vehicle, the steering column location must remain relatively stable during a FMVSS No. 208 barrier test to consistently meet the test requirements.

Two commenters, the Advocates for Highway and Auto Safety (Advocates) and LAS-KDS, Inc. opposed the exemptions. The Advocates stated without the standard, the steering column would move rearward, even closer to the driver, prior to air bag deployment. If this occurred, there would be a very forceful impact of the air bag on the driver because the driver would be closer to the steering wheel. LAS-KDS, Inc. agreed that vehicles will continue to meet the requirements of FMVSS No. 208, but said that in more severe crashes the exclusion from the FMVSS No. 204 requirements will remove an important safety margin and reintroduce the hazard or injuries associated with the “spear-like” qualities from the rearward travel of the steering column.

On July 20, 1998, NHTSA terminated rulemaking on FMVSS No. 204 (63 FR 38799) since the agency temporarily allowed manufacturers to certify vehicles to the occupant protection standard based upon an unbelted sled test and a belted barrier test. The capability of the steering column to provide a stable platform for the air bag was not tested in a FMVSS No. 208 sled test option for unbelted occupants since no structural deformation of the vehicle structure occurred.

On May 12, 2000, NHTSA amended FMVSS No. 208 to require that future air bags be designed to create less risk of serious air bag induced injuries, particularly for small women and young children; and provide improved frontal crash protection for all occupants, by means that include advanced air bag technology (65 FR 30680; advanced air bag rule). To achieve these goals, it added a variety of new test requirements, test procedures and injury criteria, using an assortment of new dummies. Among the requirements, it replaced both the unbelted sled test option and the original 0-48 km/h unbelted barrier crash test option with a single 32-40 km/h unbelted barrier crash test for assessing the protection of unbelted occupants. This amendment to the standard will be fully effective September 1, 2006.

II. The Petition

On July 28, 2004, Honda Motor Company Ltd. (Honda) submitted a petition for rulemaking requesting that NHTSA amend the applicability of FMVSS No. 204 to include the words “However, it does not apply to vehicles that conform to the frontal barrier crash requirements of (S5.1) of Standard No. 208 (49 CFR 571.208) by means of other than seat belt assemblies.” The petitioner stated that after September 1, 2006, the advanced air bag requirements of FMVSS No. 208 would be applicable to all light vehicles. After that date, the unbelted sled test option will not be allowed and frontal barrier crash tests with restrained and unrestrained dummies will be required. Honda believes that the FMVSS No. 208 injury criteria could be used as a measure for excessive contact or movement of the steering controls, which are consistent with FMVSS No. 204. Honda stated that the proposed amendment would eliminate redundancy between FMVSS Nos. 204 and 208.

III. Analysis of Petition

In support of its petition, Honda relied on the fact that the agency published a NPRM in 1995 proposing to exclude certain vehicles from complying with FMVSS No. 204. It suggested that circumstances now warrant NHTSA's re-examination of the necessity of FMVSS No. 204 as it relates to the advanced air bag requirements. However, NHTSA disagrees with the petitioner's rationale for two reasons. First, FMVSS No. 208 no longer requires a 0-48 km/h unbelted barrier crash test, as it had in 1995. The advanced air bag final rule amended FMVSS No. 208 such that the maximum unbelted barrier crash test speed is lower and the range is more narrowly defined as 32-40 km/h. Second, vehicle structures and their air bag systems have changed considerably since 1995. The petitioner provided no data to support a re-examination of how FMVSS No. 204 relates to vehicles certified to the advanced air bag requirements. Thus, the agency is not persuaded that protection provided by FMVSS No. 204 is unnecessary or redundant for vehicles equipped with advanced air bags solely based on the past proposal. Furthermore, the petitioner provided no data to support its assertion that FMVSS No. 208 injury criteria could be used as a measure for excessive contact or movement of the steering controls during frontal barrier crash tests.

In the absence of the standard, we do not know what would happen to frontal crash protection. We are also not sure if minimizing the steering column rearward displacement would remain an industry practice. The agency continues to believe that a stable steering column for air bag deployment is a fundamental building block for frontal occupant protection while the decoupling of the steering wheel also minimizes the possible risk of intrusion in real world crashes beyond those representing a rigid barrier. Therefore, we believe that FMVSS No. 204 has contributed to air bags that perform well in the field. We are also unaware that the current standard is prohibiting the implementation of new technologies that may improve frontal occupant protection. We do plan to conduct a regulatory review of FMVSS No. 204, to determine if emerging technologies or injury patterns warrant a closer look at the need for revisions to the standard.

For these reasons discussed above, we are denying Honda's petition for rulemaking. In accordance with 49 CFR part 552, this completes the agency's review of the petition for rulemaking.

Authority: 49 U.S.C. 322, 30111, 30115, 30117 and 30162; delegation of authority at 49 CFR 1.50.

Issued on: March 20, 2006.
Stephen R. Kratzke,
Associate Administrator for Rulemaking.

[FR Doc. 06-2836 Filed 3-22-06; 8:45 am]

BILLING CODE 4910-59-P